DEPARTMENT OF COMMERCE

National Oceanic and Atmospheric Administration

[RTID 0648-XB548]

North Pacific Fishery Management Council; Public Meeting

AGENCY: National Marine Fisheries Service (NMFS), National Oceanic and Atmospheric Administration (NOAA), Commerce.

ACTION: Notice of webconference.

SUMMARY: The North Pacific Fishery Management Council (Council) Groundfish Plan Teams will meet November 15, 2021 through November 19, 2021.

DATES: The meetings will be held on Monday, November 15, 2021 through Friday, November 19, 2021, from 8 a.m. to 4 p.m. Alaska Time.

ADDRESSES: The meeting will be a webconference. Join online through the link at https://meetings.npfmc.org/Meeting/Details/2673.

Council address: North Pacific Fishery Management Council, 1007 W 3rd Ave, Anchorage, AK 99501-2252; telephone: (907) 271-2809. Instructions for attending the meeting are given under SUPPLEMENTARY INFORMATION, below.

FOR FURTHER INFORMATION CONTACT: Sara Cleaver or Diana Stram, Council staff; phone: (907) 271-2809 and email: sara.cleaver@noaa.gov or diana.stram@noaa.gov. For technical support please contact our administrative staff; email: npfmc.admin@noaa.gov.

SUPPLEMENTARY INFORMATION:

Agenda

Monday, November 15, 2021 to Friday, November 19, 2021

The Bering Sea and Aleutian Islands (BSAI) and Gulf of Alaska (GOA) Plan Teams will compile and review the annual BSAI and GOA Groundfish Stock Assessment and Fishery Evaluation (SAFE) reports, and recommend final groundfish OFL and ABCs for 2022/23. The Plan Teams will also review the Economic Report and the Ecosystem Status Reports. The agenda is subject to change, and the latest version will be posted at https://meetings.npfmc.org/Meeting/Details/2673. prior to the meeting, along with meeting materials.

Connection Information

You can attend the meeting online using a computer, tablet, or smart phone; or by phone only. Connection information will be posted online at: https://meetings.npfmc.org/Meeting/Details/2673.

Public Comment

Public comment letters should be submitted electronically to https://meetings.npfmc.org/Meeting/Details/2673.

Authority: 16 U.S.C. 1801 et seq.

Dated: October 25, 2021.
Tracey L. Thompson,
Acting Deputy Director, Office of Sustainable Fisheries, National Marine Fisheries Service.

[FR Doc. 2021-23526 Filed 10-28-21; 8:45 am]

BILLING CODE 3510-22-P